ENVIRONMENTAL PROTECTION AGENCY

40 CFR Part 60

[EPA-HQ-OAR-2006-0699; FRL-8568-9]

RIN 2060-AO90

Standards of Performance for Equipment Leaks of VOC in the Synthetic Organic Chemicals Manufacturing Industry; Standards of Performance for Equipment Leaks of VOC in Petroleum Refineries

AGENCY: Environmental Protection Agency (EPA).

ACTION: Proposed rule; stay.

SUMMARY: EPA is proposing to extend the stay of certain provisions of the standards of performance for equipment leaks of VOC in the Synthetic Organic Chemicals Manufacturing Industry (SOCMI) and Petroleum Refineries. In the “Rules and Regulations” section of this Federal Register we are extending the stay as a direct final rule without a prior proposed rule. If we receive no adverse comment, we will not take further action on this proposed rule.

DATES: Written comments must be received by July 2, 2008.

ADDRESSES: Submit your comments, identified by Docket ID No. EPA-HQ-OAR-2006-0699, by mail to Air and Radiation Docket (2822T), 1200 Pennsylvania Avenue, NW., Washington, DC 20460. Please include a total of two copies. Comments may also be submitted electronically or through hand delivery/courier by following the detailed instructions in the ADDRESSES section of the direct final rule located in the rules section of this Federal Register.

We request that you also send a separate copy of each comment to the contact persons listed below (see FOR FURTHER INFORMATION CONTACT).

FOR FURTHER INFORMATION CONTACT: Ms. Karen Rackley, Coatings and Chemicals Group, Sector Policies and Programs Division, Office of Air Quality Planning and Standards (E143-01), Environmental Protection Agency, Research Triangle Park, North Carolina 27711; telephone number: (919) 541-0634; fax number: 919-541-0246; e-mail address: rackley.karen@epa.gov.

SUPPLEMENTARY INFORMATION:

I. Why Is EPA Issuing This Proposed Rule?

This document proposes to take action on the standards of performance for equipment leaks of VOC in the SOCMI and Petroleum Refineries. We have published a direct final rule extending the stay of the provisions under reconsideration and the stay of the clarification of the definition of process unit in the “Rules and Regulations” section of this Federal Register because we view this as a noncontroversial action and anticipate no adverse comment. We have explained our reasons for this action in the preamble to the direct final rule.

If we receive no adverse comment, we will not take further action on this proposed rule. If we receive adverse comment, we will withdraw the direct final rule and it will not take effect. We would address all public comments in any subsequent final rule based on this proposed rule.

We do not intend to institute a second comment period on this action. Any parties interested in commenting must do so at this time. For further information, please see the information provided in the ADDRESSES section of this document.

II. Does This Action Apply to Me?

Categories and entities potentially regulated by this action are synthetic organic chemicals manufacturers and petroleum refineries. The New Source Performance Standards (NSPS) for equipment leaks of VOC in SOCMI and petroleum refineries affect the following categories of sources:

Category | NAICS Code ¹ | Examples of potentially regulated entities
Industry | 324110 | Petroleum refiners.
| Primarily 325110, 325192, 325193, and 325199 | Synthetic organic chemical manufacturing industry (SOCMI) units, e.g., producers of benzene, toluene, or any other chemical listed in 40 CFR 60.489.
¹ North American Industrial Classification System.

This table is not intended to be exhaustive, but rather provides a guide for readers regarding entities likely to be regulated by the final amendments and new standards for equipment leaks of VOC in SOCMI and petroleum refineries. To determine whether your facility is regulated by this action, you should examine the applicability criteria in 40 CFR 60.480, 60.590, 60.480a, and 60.590a. If you have any questions regarding the applicability of the NSPS to a particular entity, contact the person listed in the preceding FOR FURTHER INFORMATION CONTACT section.

III. Statutory and Executive Orders

For a complete discussion of all of the administrative requirements applicable to this action, see the direct final rule in the “Rules and Regulations” section of this Federal Register.

List of Subjects in 40 CFR Part 60

Environmental protection, Administrative practice and procedure, Air pollution control, Incorporation by reference, Intergovernmental relations, Reporting and recordkeeping requirements.

Dated: May 15, 2008.
Stephen L. Johnson,
Administrator.

For the reasons cited in the preamble, title 40, chapter I, part 60 of the Code of Federal Regulations is amended as follows:

PART 60—[AMENDED]

1. The authority citation for part 60 continues to read as follows:

Authority: 42 U.S.C. 7401, et seq.

Subpart VV—[Amended]

2. Section 60.480 is amended by adding paragraph (f) to read as follows:

§ 60.480 Applicability and designation of affected facility.

* * * * *

(f) Stay of standards. Owners or operators are not required to comply with the definition of “process unit” in § 60.481 and the requirements in § 60.482-1(g) of this subpart until the EPA takes final action to require compliance and publishes a document in the Federal Register. While the definition of “process unit” is stayed, owners or operators should use the following definition:

Process unit means components assembled to produce, as intermediate or final products, one or more of the chemicals listed in § 60.489 of this part. A process unit can operate independently if supplied with sufficient feed or raw materials and sufficient storage facilities for the product.

§ 60.481 [Amended]

3. In § 60.481, the definition for “process unit” is stayed from August 1, 2008 until further notice.

§ 60.482-1 [Amended]

4. In § 60.482-1, paragraph (g) is stayed from August 1, 2008 until further notice.

Subpart VVa—[Amended]

5. Section 60.480a is amended by adding paragraph (f) to read as follows:

§ 60.480a Applicability and designation of affected facility.

* * * * *

(f) Stay of standards. (1) Owners or operators that start a new, reconstructed, or modified affected source prior to November 16, 2007 are not required to comply with the requirements in this paragraph until EPA takes final action to require compliance and publishes a document in the Federal Register.

(i) The definition of “capital expenditure” in § 60.481a of this subpart. While the definition of “capital expenditure” is stayed, owners or operators should use the definition found in § 60.481 of subpart VV of this part.

(2) Owners or operators are not required to comply with the requirements in this paragraph until EPA takes final action to require compliance and publishes a document in the Federal Register.

(i) The definition of “process unit” in § 60.481a of this subpart. While the definition of “process unit” is stayed, owners or operators should use the following definition:

Process unit means components assembled to produce, as intermediate or final products, one or more of the chemicals listed in § 60.489 of this part. A process unit can operate independently if supplied with sufficient feed or raw materials and sufficient storage facilities for the product.

(ii) The method of allocation of shared storage vessels in § 60.482-1a(g) of this subpart.

(iii) The standards for connectors in gas/vapor service and in light liquid service in § 60.482-11a of this subpart.

§ 60.481a [Amended]

6. In § 60.481a, the definitions of “capital expenditure” and “process unit” are stayed from August 1, 2008 until further notice.

§ 60.482-1a [Amended]

7. In § 60.482-1a, paragraph (g) is stayed from August 1, 2008 until further notice.

§ 60.482-11a [Amended]

8. Section 60.482-11a is stayed from August 1, 2008 until further notice.

Subpart GGG—[Amended]

9. Section 60.590 is amended by adding paragraph (e) to read as follows:

§ 60.590 Applicability and designation of affected facility.

* * * * *

(e) Stay of standards. Owners or operators are not required to comply with the definition of “process unit” in § 60.590 of this subpart until the EPA takes final action to require compliance and publishes a document in the Federal Register. While the definition of “process unit” is stayed, owners or operators should use the following definition:

Process unit means components assembled to produce intermediate or final products from petroleum, unfinished petroleum derivatives, or other intermediates; a process unit can operate independently if supplied with sufficient feed or raw materials and sufficient storage facilities for the product.

§ 60.591 [Amended]

10. In § 60.591, the definition of “process unit” is stayed from August 1, 2008 until further notice.

Subpart GGGa—[Amended]

11. Section 60.590a is amended by adding paragraph (e) to read as follows:

§ 60.590a Applicability and designation of affected facility.

* * * * *

(e) Stay of standards. Owners or operators are not required to comply with the definition of “process unit” in § 60.590 of this subpart until the EPA takes final action to require compliance and publishes a document in the Federal Register. While the definition of “process unit” is stayed, owners or operators should use the following definition:

Process unit means components assembled to produce intermediate or final products from petroleum, unfinished petroleum derivatives, or other intermediates; a process unit can operate independently if supplied with sufficient feed or raw materials and sufficient storage facilities for the product.

§ 60.591a [Amended]

12. In § 60.591a, the definition of “process unit” is stayed from August 1, 2008 until further notice.

[FR Doc. E8-11384 Filed 5-30-08; 8:45 am]

BILLING CODE 6560-50-P